DEPARTMENT OF THE INTERIOR

Bureau of Land Management

[LLMT922200-2017-L13100000-FI0000-P; NDM 98547 and NDM 104389 MO #4500108154]

Proposed Reinstatement of Terminated Oil and Gas Leases NDM 98547 and NDM 104389, North Dakota

AGENCY: Bureau of Land Management, Interior.

ACTION: Notice of proposed reinstatement.

SUMMARY: As required under the Mineral Leasing Act of 1920, OXY USA Inc., timely filed a petition for reinstatement of competitive oil and gas leases NDM 98547 and NDM 104389, Mountrail County, North Dakota. The lessee paid the required rentals accruing from the date of termination. No new leases have been issued for any of the lands affected by the terminated leases and the lands have not been disposed of or otherwise become unavailable for leasing. The BLM proposes to reinstate the leases.

FOR FURTHER INFORMATION CONTACT: Kimberly Werven, Chief, Fluids Adjudication Section, Bureau of Land Management Montana State Office, 5001 Southgate Drive, Billings, Montana 59101-4669, 406-896-5091, kwerven@blm.gov.

Persons who use a telecommunications device for the deaf (TDD) may call the Federal Relay Service (FRS) at 1-800-877-8339 to contact the above individual during normal business hours. The FRS is available 24 hours a day, 7 days a week, to leave a message or question with the above individual. You will receive a reply during normal business hours.

SUPPLEMENTARY INFORMATION: The lessee agrees to new lease terms for rentals and royalties of $10 per acre, or fraction thereof, per year, and 16⅔ percent, respectively. The lessee agrees to additional or amended stipulations. The lessee paid the $500 administration fee for the reinstatement of the leases and the $159 cost for publishing this Notice.

The lessee met the requirements for reinstatement of the leases per Section 31(d) and (e) of the Mineral Leasing Act of 1920. We are proposing to reinstate the leases, effective the date of termination subject to the:

• Original terms and conditions of the leases;

• Additional and amended stipulations;

• Increased rental of $10 per acre;

• Increased royalty of 16⅔ percent; and

• $159 cost of publishing this Notice.

(Authority: 30 U.S.C. 188)

Kimberly Werven,
Chief, Fluids Adjudication Section.

[FR Doc. 2017-20571 Filed 9-25-17; 8:45 am]

BILLING CODE 4310-DN-P